DEPARTMENT OF AGRICULTURE

Submission for OMB Review; Comment Request

September 13, 2018.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by October 18, 2018. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: United States Warehouse Act (USWA).

OMB Control Number: 0581-0305.

Summary of Collection: The Agricultural Marketing Service (AMS) is responsible, as required by the USWA, 7 U.S.C. 241 et seq., to license public warehouse operators that are in the business of storing agricultural products; to examine such federally-licensed warehouses and to license qualified persons to sample, inspect, weight, and classify agricultural products. The AMS licenses under the USWA cover approximately half of all commercial grain and cotton warehouse capacities in the United States. The regulations that implement the USWA governs the establishment and maintenance of systems under which documents, including documents of title on shipment, payment, and financing, may be issued, or transferred for agricultural products.

Need and Use of the Information: AMS will collect information as a basis to (1) determine whether or not the warehouse and the warehouse operator making application for licensing and/or approval meets applicable standards; (2) issue such license or approvals; and (3) determine, once licensed or approved, that the licensee or warehouse operator continues to meet such standards and is conforming to regulatory or contractual obligations. The information collected allows AMS to effectively administer the regulations, licensing, and electronic provider agreements and related reporting and recordkeeping requirements as specified in the USWA.

Description of Respondents: Business or other for-profit. Farms.

Number of Respondents: 3,000.

Frequency of Responses: Recordkeeping; Reporting: On occasion; Weekly.

Total Burden Hours: 40,587.

Ruth Brown,
Departmental Information Collection Clearance Officer.

[FR Doc. 2018-20281 Filed 9-17-18; 8:45 am]

BILLING CODE 3410-02-P